DEPARTMENT OF ENERGY

Federal Energy Regulatory Commission

[Docket No. EL03-115-000]

Neptune Regional Transmission System, LLC, Complainant v. Reliant Energy New Jersey Holdings, LLC, and Reliant Resources, Inc., Respondents; Notice of Complaint

April 8, 2003.

Take notice that on April 4, 2003, Neptune Regional Transmission

System, LLC (NeptuneRTS(TM)) tendered for filing a Complaint pursuant to Sections 201, 202, 203, 210, and 306 of the Federal Power Act against Reliant Energy New Jersey Holdings, LLC and Reliant Resources, Inc. (Reliant). The Complaint asks the Commission to grant the request of NeptuneRTST for fast track processing and seeks an order directing Reliant to execute, within 7 days of the Order, certain agreements relating to access to jurisdictional transmission assets located on property owned by Reliant. The complaint alleges that Reliant is exercising its control over easements to preclude competitors from accessing the transmission system. Among other things, the complaint raises the issue of what entity has jurisdiction to order access to Reliant's property.

NeptuneRTS(TM) states that copies of the filing were served upon Reliant; FirstEnergy Corp.; Pennsylvania-Jersey-Maryland Interconnection, LLC; Consolidated Edison Company of New York, Inc.; the New Jersey Board of Public Utilities; the New Jersey Department of Environmental Protection; and the New York Department of Public Service.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before comment date. This filing is available for review at the Commission in the Public Reference Room or may be viewed on the Commission's Web site at http://www.ferc.gov using the “FERRIS” link.

Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's web site under the “e-Filing” link. The Commission strongly encourages electronic filings.

Comment Date: April 23, 2003.

Magalie R. Salas,
Secretary.

[FR Doc. 03-9106 Filed 4-11-03; 8:45 am]

BILLING CODE 6717-01-P